DEPARTMENT OF DEFENSE

Department of the Army

Notice of Availability of the Draft Environmental Impact Statement (DEIS) for the Permanent Stationing of the 2nd Brigade, 25th Infantry Division Stryker Brigade Combat Team (SBCT)

AGENCY: Department of the Army, DoD.

ACTION: Notice of Availability (NOA).

SUMMARY: The Department of the Army announces the availability of a DEIS for the permanent stationing of the 2nd Brigade, 25th Infantry Division (2/25th) SBCT. Pursuant to the National Environmental Policy Act (NEPA), the Department of the Army has prepared this DEIS to disclose potential impacts to the natural, physical, and human environment resulting from the permanent stationing of the 2/25th SBCT. Potential impacts have been analyzed at installations which are capable of meeting the SBCTs training, operational, Soldier and Family quality of life, and strategic deployment requirements.

DATES: Written comments on the DEIS will be accepted for 45 days following publication of a notice of availability in the Federal Register by the U.S. Environmental Protection Agency.

ADDRESSES: Send all written comments and suggestions concerning this EIS to: Public Affairs Office, U.S. Army Environmental Command, Building E4460, Attention: IMAE-PA, 5179 Hoadley Road, Aberdeen Proving Ground, MD 21010-5401. Comments may also be sent via e-mail to PublicComments@aec.apgea.army.mil.

FOR FURTHER INFORMATION CONTACT: Public Affairs Office at (410) 436-2556; facsimile at (410) 436-1693 (during normal business hours Monday through Friday).

SUPPLEMENTARY INFORMATION: The Proposed Action and analysis within the DEIS covers those activities required to implement the stationing of the 2/25th SBCT. These activities include garrison construction, training range construction, live-fire training, and maneuver training.

In May 2004, the Army released the Final Environmental Impact Statement (FEIS) for Transformation of the 2nd Brigade, 25th Infantry Division (Light) to the 2/25th SBCT. The SBCT is a maneuver brigade that includes approximately 4,000 Soldiers (infantry, artillery, engineers, and other Army specialties) and 1,000 vehicles (including about 320 Stryker Combat Vehicles). In July 2004, the Army released a Record of Decision (ROD) documenting its decision to transform the 2/25th from an Infantry brigade to an SBCT and permanently home station it in Hawaii.

The Stryker is an armored infantry wheeled combat vehicle. The Stryker provides Soldiers and commanders with increased firepower, maneuverability, and, most importantly, survivability in a combat environment. The increased speed and maneuver capabilities of the SBCT allow it to conduct operations across much larger areas than the Army's traditional legacy brigades. These capabilities have allowed the SBCT to successfully conduct a broad range of missions in support of Operation Iraqi Freedom.

To be effective when operationally deployed abroad requires that the SBCT have the proper training and support facilities at a home station. Such facilities include training ranges, maneuver land, housing, administrative, and quality of life infrastructure for the SBCTs Soldiers, their Families, vehicles and equipment. Without these resources, the SBCT cannot attain the readiness levels needed to ensure the successful accomplishment of its missions and safety of its Soldiers. In addition to these requirements, the SBCT must be stationed in a location from which it can rapidly deploy to support national security requirements.

The 2/25th began its transformation to an SBCT shortly after completion of the 2004 FEIS and signing of the ROD. As of November 2006, the Brigade had completed a majority of its training and equipment fielding in Hawaii and is scheduled to complete its transformation in 2007. By November 2007, the Army requires that the SBCT be ready for deployment to support ongoing operations.

In October 2006, the Federal Court of Appeals for the Ninth Circuit determined that the Army had not fully complied with NEPA for the transformation of the 2/25th because it did not adequately address or analyze potentially reasonable alternate locations for the transformation and training of this unit. In particular, the Court concluded that the Army had a duty under NEPA to consider locations other than Hawaii for the permanent stationing of the 2/25th SBCT, and the Court ordered the Army to prepare an EIS to address a broader range of alternatives. The Army has prepared an EIS in accordance with the Court's guidance to examine reasonable alternative locations for the proposed action to permanently station the 2/25th SBCT.

The EIS examines several Army installations capable of supporting the permanent stationing of the 2/25th SBCT. The EIS will provide the Army senior leadership with a hard look at environmental impacts associated with the Proposed Action and better inform their decision-making process for selecting the final stationing location. This effort includes analysis of all activities (training, facilities construction, and Soldier and Family support) required to permanently station the 2/25th. This EIS effort will assist the Army in arriving at a decision that can accommodate the Brigade's training, operations, and quality of life requirements while meeting the strategic defense needs of the nation.

After reviewing the full range of potential Army stationing locations, three alternatives for implementing the proposed action have been identified by the Army as reasonable alternatives capable of meeting the Army's need criteria and screening criteria. Alternatives for the proposed action include: (1) Permanently stationing the 2/25th SBCT at Schofield Barracks Military Reservation (SBMR) while conducting required training at military training sites in Hawaii; (2) permanently stationing the 2/25th SBCT at Fort Richardson while conducting required training at military training sites in Alaska; and (3) permanently stationing the 2/25th SBCT at Fort Carson while conducting required training at military training sites in Colorado. In addition to these alternatives, the no action alternative is described and its environmental impacts fully assessed and considered.

Direct, indirect, and cumulative impacts of the Proposed Action have been considered in the DEIS. The DEIS identifies significant impacts at each of the three alternative locations which would occur as a result of implementing the proposed action. Impacts at alternative sites would result from construction and training activities. Significant impacts to resources would be direct and long term. The No Action Alternative provides the baseline conditions for comparison to the Proposed Alternative. Additional concerns or impacts may be identified as a result of comments received on this DEIS.

The Army invites full public participation to promote open communication and better decision making. All persons and organizations that have an interest in the permanent stationing of the 2/25th SBCT are urged to participate in this NEPA evaluation process. Assistance will be provided upon request to anyone having difficulty understanding how to participate. Public meetings will be held in Hawaii, Alaska, and Colorado. The locations, times, and dates of the public hearing will be announced in advance through notices and media news releases.

Dated: July 13, 2007.
Addison D. Davis, IV,
Deputy Assistant Secretary of the Army, (Environment, Safety and Occupational Health).

[FR Doc. 07-3530 Filed 7-19-07; 8:45 am]

BILLING CODE 3710-08-M